DEPARTMENT OF THE TREASURY

Internal Revenue Service

26 CFR Part 1

[TD 9016]

RIN 1545-AY71

Obligations of States and Political Subdivisions; Correction

AGENCY: Internal Revenue Service (IRS), Treasury.

ACTION: Correction to final regulations.

SUMMARY: This document contains corrections to final regulations that were published in the Federal Register on Monday, September 23, 2002 (67 FR 59756) relating to the definition of private activity bonds applicable to tax-exempt bonds issued by state and local governments for output facilities.

DATES: This correction is effective November 22, 2002.

FOR FURTHER INFORMATION CONTACT: Rose M. Weber (202) 622-3880 (not a toll-free number).

SUPPLEMENTARY INFORMATION:

Background

The final regulations that are the subject of these corrections is under section 141 of the Internal Revenue Code.

Need for Correction

As published, the final regulations contain errors that may prove to be misleading and are in need of clarification.

Correction of Publication

Accordingly, the publication of final regulations (TD 9016), that were the subject of FR Doc. 02-24137, is corrected as follows:

1. On page 59758, column 2, in the preamble under the paragraph heading “Explanation of Provisions”, first line, the language “through 821(c) (or by a state authority” is corrected to read “through 825r (or by a state authority”.

§ 1.141-7 [Corrected]

2. On page 59761, column 2, § 1.141-7(g)(1)(ii)(B), line 5, the language “Act (16 U.S.C. 791a through 821c) (or by” is corrected to read “Act (16 U.S.C. 791a through 825r) (or by”.

3. On page 59761, column 3, § 1.141-7(g)(3), fifth line from the top of the column, the language “U.S.C. 791a through 821(c) (does not” is corrected to read “U.S.C. 791a through 825r) (or by a state regulatory authority under comparable provisions of state law) does not”.

Cynthia E. Grigsby,
Chief, Regulations Unit, Associate Chief Counsel, (Income Tax and Accounting).

[FR Doc. 02-30140 Filed 11-26-02; 8:45 am]

BILLING CODE 4830-01-P